DEPARTMENT OF HOMELAND SECURITY

U.S. Customs and Border Protection

[Docket No. USCBP-2020-0013]

Commercial Customs Operations Advisory Committee (COAC)

AGENCY: U.S. Customs and Border Protection (CBP), Department of Homeland Security (DHS).

ACTION: Committee management; Notice of Federal advisory committee meeting.

SUMMARY: The Commercial Customs Operations Advisory Committee (COAC) will hold its quarterly meeting on Wednesday, April 15, 2020, in Washington, DC. The meeting will be open to the public via webinar only. There is no on-site, in-person option for this quarterly meeting.

DATES: The COAC will meet on Wednesday, April 15, 2020, from 1:00 p.m. to 5:00 p.m. EDT. Please note that the meeting may close early if the committee has completed its business. Comments must be submitted in writing no later than April 14, 2020.

ADDRESSES: The meeting will be held via webinar. The webinar link and conference number will be provided to all registrants by 10:00 a.m. EDT on April 15, 2020. For information on facilities or services for individuals with disabilities or to request special assistance at the meeting, contact Ms. Florence Constant-Gibson, Office of Trade Relations, U.S. Customs and Border Protection (CBP), at (202) 344-1440 as soon as possible.

FOR FURTHER INFORMATION CONTACT: Ms. Florence Constant-Gibson, Office of Trade Relations, U.S. Customs and Border Protection, 1300 Pennsylvania Avenue NW, Room 3.5A, Washington, DC 20229; telephone (202) 344-1440; facsimile (202) 325-4290; or Ms. Valarie M. Neuhart, Acting Executive Director and Designated Federal Officer at (202) 344-1440.

SUPPLEMENTARY INFORMATION: Notice of this meeting is given under the Federal Advisory Committee Act, 5 U.S.C. Appendix. The Commercial Customs Operations Advisory Committee (COAC) provides advice to the Secretary of Homeland Security, the Secretary of the Treasury, and the Commissioner of U.S. Customs and Border Protection (CBP) on matters pertaining to the commercial operations of CBP and related functions within the Department of Homeland Security and the Department of the Treasury.

Pre-Registration: For members of the public who plan to participate via webinar, please register online at https://teregistration.cbp.gov/index.asp?w=177 by 5:00 p.m. EDT on April 14, 2020. For members of the public who are pre-registered to attend and later need to cancel a webinar registration, please do so online at https://teregistration.cbp.gov/cancel.asp?w=177 by April 14, 2020.

To facilitate public participation, we are inviting public comment on the issues the committee will consider prior to the formulation of recommendations as listed in the Agenda section below. Comments must be submitted in writing no later than April 14, 2020, and must be identified by Docket No. USCBP-2020-0013, and may be submitted by one (1) of the following methods:

• Federal eRulemaking Portal: http://www.regulations.gov. Follow the instructions for submitting comments.

• Email: tradeevents@cbp.dhs.gov. Include the docket number in the subject line of the message.

• Fax: (202) 325-4290, Attention Florence Constant-Gibson.

• Mail: Ms. Florence Constant-Gibson, Office of Trade Relations, U.S. Customs and Border Protection, 1300 Pennsylvania Avenue NW, Room 3.5A, Washington, DC 20229.

Instructions: All submissions received must include the words “Department of Homeland Security” and the docket number (USCBP-2020-0013) for this action. Comments received will be posted without alteration at http://www.regulations.gov. Please do not submit personal information to this docket.

Docket: For access to the docket or to read background documents or comments, go to http://www.regulations.gov and search for Docket Number USCBP-2020-0013. To submit a comment, click the “Comment Now!” button located on the top right-hand side of the docket page.

There will be multiple public comment periods held during the meeting on April 15, 2020. Speakers are requested to limit their comments to two (2) minutes or less to facilitate greater participation. Contact the individual listed below to register as a speaker. Please note that the public comment period for speakers may end before the time indicated on the schedule that is posted on the CBP web page, http://www.cbp.gov/trade/stakeholder-engagement/coac.

Agenda

The COAC will hear from the current subcommittees on the topics listed below and then will review, deliberate, provide observations, and formulate recommendations on how to proceed:

1. The Intelligent Enforcement Subcommittee will provide updates and recommendations from the working groups under their jurisdiction for COAC's consideration. The Intellectual Property Rights (IPR) Working Group will provide information regarding improvements in the eRecordation process and data sharing. The IPR Working Group will also provide updates and recommendations regarding the Department of Homeland Security Report on Combatting Trafficking in Counterfeit and Pirated Goods and the Executive Order on Ensuring Safe and Lawful E-Commerce for United States Consumers, Businesses, Government Supply Chains, and Intellectual Property Rights. The Anti-Dumping and Countervailing Duty (AD/CVD) and Bond Working Groups will provide updates on risk-based bonding as well as bonds for Foreign Trade Zones and pipeline operators. The Forced Labor Working Group will provide updates and recommendations on the proof of admissibility for forced labor allegations, industry collaboration, and statutory guidance related to disclosure and mitigation.

2. The Secure Trade Lanes Subcommittee will provide updates on the Trusted Trader Working Group's activities specific to Customs Trade Partnership Against Terrorism (CTPAT) Trade Compliance implementation and new forced labor program requirements. The subcommittee will also provide an analysis of the In-Bond processes with a focus on specific “Pain Point” areas by mode, that are being developed for potential solutions and to create greater efficiency and present some recommendations for deliberation. Additionally, the Export Modernization Working Group will provide updates of export data elements and opportunities for export process efficiencies. The subcommittee will also report on the activities of the Remote and Autonomous Cargo Processing Working Group.

3. The Next Generation Facilitation Subcommittee will provide an update on the progress on the Emerging Technologies Working Group's various initiatives, including the recent completion of the IPR Blockchain Proof of Concept assessment. The One U.S. Government Working Group will discuss progress on the Global Business Identifier and working group priorities. There will be a subcommittee update on the progress of the Unified Entry Processes Working Group's work towards an operational framework and the results of mapping out perceived deficiencies in the current entry process.

4. The Rapid Response Subcommittee will provide updates on the newly formed U.S.-Mexico-Canada Agreement (USMCA) Working Group, the work that has been completed by the Broker Continuing Education Taskforce, and discuss its opinion as to why continuing education is important and should be mandated.

Meeting materials will be available by April 13, 2020, at: http://www.cbp.gov/trade/stakeholder-engagement/coac/coac-public-meetings.

Dated: March 20, 2020.
Valarie M. Neuhart,
Acting Executive Director, Office of Trade Relations.

[FR Doc. 2020-06261 Filed 3-25-20; 8:45 am]

BILLING CODE 9111-14-P